DEPARTMENT OF TRANSPORTATION

Federal Railroad Administration

Proposed Agency Information Collection Activities

AGENCY: Federal Railroad Administration, DOT.

ACTION: Notice, and request for comments.

SUMMARY: In compliance with the Paperwork Reduction Act of 1995 (44 U.S.C 3501 et seq.), this notice announces that the Information Collection Requirement (ICR) abstracted below has been forwarded to the Office of Management and Budget (OMB) for review and comment. The ICR describes the nature of the information collection and its expected burden. The Federal Register Notice with a 60-day comment period soliciting comments on the following collection of information was published on May 13, 1999 (64 FR 25952)

DATES: Comments must be submitted on or before February 23, 2000.

FOR FURTHER INFORMATION CONTACT: Mr. Robert Brogan, Office of Safety Analysis, Planning and Evaluation Division, RRS-21, Federal Railroad Administration (FRA), 1120 Vermont Ave., NW, Mail Stop 17, Washington, DC 20590 (telephone: (202) 493-6292) or Dian Deal, Office of Information Technology and Productivity Improvement, RAD-20, FRA, 1120 Vermont Ave., NW, Mail Stop 35, Washington, DC 20590 (telephone: (202) 493-6133). (These telephone numbers are not toll-free.)

SUPPLEMENTARY INFORMATION: The Paperwork Reduction Act of 1995 (PRA), Pub. L. No. 104-13, section 2, 109 Stat. 163 (1995) (codified as revised at 44 U.S.C. 3501-3520), and its implementing regulations, 5 CFR part 1320, require Federal agencies to issue two notices seeking public comment on information collection activities before OMB may approve paperwork packages. 44 U.S.C. 3506; 3507; 5 CFR 1320.5, 1320.8(d)(1), 1320.12. On May 13, 1999, FRA published a 60-day notice in the Federal Register soliciting comment on ICRs that the agency was seeking OMB approval. 64 FR 25952. FRA received several comments after issuing this notice. FRA has carefully evaluated these comments and has responded to them fully in the information collection submission which it is presently forwarding to OMB. A summary of the comments and FRA responses are given below. Accordingly, DOT announces that these information collection activities have been re-evaluated and certified under 5 CFR 1320.5(a) and forwarded to OMB for review and approval pursuant to 5 CFR 1320.12(c). Interested members of the public may obtain a free copy of this information collection submission by contacting Mr. Robert Brogan or Ms. Dian Deal at the telephone numbers listed above.

Before OMB decides whether to approve these proposed collections of information, it must provide 30 days for public comment. 44 U.S.C. 3607(b); 5 CFR 1320.12(d). Federal law requires OMB to approve or disapprove paperwork packages between 30 and 60 days after the 30 day notice is published. 44 U.S.C. 3507 (b)-(c); 5 CFR 1320.12(d); see also 60 FR 44978, 44983, Aug. 29, 1995.

The summaries below describe the nature of the ICRs and the expected burden. The revised requirements are being submitted for clearance by OMB as required by the PRA.

Title: U.S. DOT Crossing Inventory Form.

OMB Control Number: 2130-0017.

Type of Request: Revision of a currently approved collection.

Affected Public: 675 railroads and 50 States.

Form(s): FRA F 6180.71.

Abstract: Form FRA 6180.71 is a voluntary form and is being revised to include additional data elements at the request of states and railroads. The form is also being revised to fulfill National Transportation Safety Board (NTSB) recommendations and to take advantage of recent advances in information technology. The form is used by states and railroads to periodically update certain cite specific highway-rail crossing information which is then transmitted to FRA for input into the National Inventory File. This information has been collected on the U.S. DOT (formerly U.S. DOT-AAR) Crossing Inventory Form since 1974 and maintained in the National Inventory File database since 1975. The primary purpose of the National Inventory is to provide for the existence of a uniform database which can be merged with accident data and used to analyze information for planning and implementation of crossing safety improvement programs by public, private, and governmental agencies responsible for highway-rail crossing safety. Following the official establishment of the National Inventory in 1975, FRA assumed the principal responsibility as custodian for the maintenance and continued development of the U.S. DOT/AAR National Highway-Rail Crossing Inventory Program. The major goal of the Program is to provide federal, state, and local governments, as well as the railroad industry, information for the improvement of safety at highway-rail crossings. Good management practices necessitate maintaining the database with current information. The data will continue to be useful only if maintained and updated as inventory changes occur. FRA previously cleared the reporting and recordkeeping burden for this form under Office of Management and Budget (OMB) clearance number 2130-0017. OMB approved the burden in the original form through March 31, 2000. Based on the most recent information available, FRA estimates approximately 65,000 updates per year. This is a substantial reduction in updates from the previous estimate of responses and represents a corresponding reduction of 1,538 hours in the reporting and recordkeeping burden. The reduction in responses is due to a lower response rate from states and railroads over the past few years and the expected continuation of this trend. FRA is requesting a three-year approval from OMB for this information collection.

Summary of Comments: FRA received a total of five written sets of comments in response to its earlier notice. Most of the comments pertained to the data elements and layout of the form. Michigan Department of Transportation (MDOT) submitted a number of comments. It stated that the reasonable time for filling out the DOT Crossing Inventory Form should be longer. MDOT noted that it has one person to perform many data conversions to provide data to FRA in the format the agency needs. After careful review, FRA believes its estimate of the amount of time required to gather the necessary information and complete the form is accurate. Thus, FRA is not changing the burden time for this form. FRA's estimate is based on the types of updates currently being provided and on the average-time estimate provided by one state which recently completed a massive state-wide update of all their crossings. MDOT requested a clearer description of what constitutes a crossing, especially in multiple crossing situations and the appropriate way to assign U.S. DOT-AAR numbers to the crossings. FRA believes the term is clear and notes in its response that a crossing inventory number shall be assigned to a crossing which is defined as “the tracks between a pair of the same type of warning devices.” See sections 1.5 and 2.3 of the 1996 Highway-Rail Crossing Inventory Instructions and Procedures Manual. While this may seem inconsistent at times in multiple track territory, it is required to properly define the warning devices and the character of the crossing. MDOT also requested that FRA make the Crossing Inventory Form available on its Website along with the ability to fill-in the form and transmit it to FRA. Upon approval by OMB, FRA will make available a blank form on its Website. The ability to fill-in the form and transmit it to FRA will not be available because the edit checks to insure data accuracy and quality would not be in place. The “GX 32” software is provided for this purpose. MDOT further requested that the railroad codes be made available on the FRA Website and also that the States and railroad be given the ability to download updated data from the Internet. FRA's response is that the railroad codes are already on the FRA Website under “View or Download FRA Auxiliary Tables.” With regard to the second matter, the capability to download the current data in the File is already available on the FRA Website under “Download Database Files.” Arrangements can also be made with FRA's data processing contractor to obtain and download updated files for the “GX 32” software. MDOT commented that a mechanism is needed to submit data that still has missing fields of information, and that some data is better than no data. FRA's response is that, if the agency allowed partial data submittal, there would be gaps in information, data accuracy and quality would suffer, and the probability would be high that missing data would not be submitted to complete the update or the addition to the new crossing. What is suggested can already be performed. The Crossing Inventory Form can be submitted with temporary or estimated information (for example, an estimate of highway traffic volume) and then it can be corrected or updated later. MDOT wanted to know exactly how latitude and longitude are determined and from what point in the crossings. In response, the new Instructions will define that actual recording of latitude and longitude be taken at the center of the crossing, that is, the midpoint of a diagonal line across the crossing between the primary warning devices facing the approach lanes of traffic. MDOT thought that a glossary of terms should be provided and that Item 5 of Part III: “Is highway paved?” should have the added designation of one-side only. In response, FRA does not believe a glossary of terms is needed. FRA recognizes that some states have specific and/or different procedures which they follow. However, for the National Inventory, the original Committee of States and Railroads established definitions that reflected the majority of users. Regarding Item 5, the instructions will indicate that if one side of the roadway is paved and the other is unpaved, it should be indicated as unpaved. MDOT observed that the states do not have the time/resources nor do the railroads to go out and specifically collect a special piece of data just because FRA has it on this form. In reply, FRA notes that the required information and data elements were defined by the states and railroads in 1973. In order to insure accuracy, consistency, and quality, FRA can not be flexible on allowing blank data fields. Lastly, MDOT had comments on system security and the integrity of data. FRA's response is to note that it accepts Inventory update information only from one designated contact person in each state and on each railroad. In order to insure the integrity and accuracy of the data, FRA requires all data elements be completed for new crossings before the record is inputted into the National File. The PCAPS (Personal Computer Accident Prediction System) program produces lists of the riskiest crossings for a specifically defined entity (state, county, city, railroad, or any combination thereof). If the data is not accurate, it is the responsibility of the state and/or railroad to provide updated information. It should be noted that the PCAPS program is only updated, produced, and distributed once per year.

A second set of comments was submitted by the Association of American Railroads (AAR). AAR recommended that the Crossing Inventory Form clearly identify the data elements which should be completed by the railroad industry and those elements which should be completed by the highway authority. FRA agrees, and has done this on the form (where possible), and in the instructions and additional materials which accompany the form instructions. AAR had several comments about the form itself. It requested that AAR's name be removed from the title of the form. FRA agrees. After consultation with the major Class I railroads which indicated their agreement, FRA has changed the title to “DOT Crossing Inventory Form.” AAR suggested that time could be saved by eliminating the second box in data items which require a yes or no answer. FRA agrees in principle. However, it was determined that, in order to be consistent with a choice for a response, a “yes” and “no” box be provided for all elements for questions where such a response was appropriate. This also assures that the respondent addresses the questions. Thus, two boxes remain for these questions. AAR observed that Part I of the form (May draft) contained several categories which should be included and identified under Part IV “Highway Department Information.” In particular, he thought, data items 3, 13, 14, 15, 16, 18, 19, and 24 should be placed under Part IV. In response, FRA has clearly identified which data elements are to be completed by the railroad and which elements are to be completed by the highway authority in the Instructions and on the Form (again where possible). Part I “Location and Classification” of the revised form provides the critical information that is required for all crossings, whether public, private, or pedestrian, at-grade or grade separated. Parts II, III, and IV are only required to be completed if the crossing is public, although information in these parts will now be accepted and inputted into the File if it is supplied for private crossings. AAR suggested that instructions for Item 3 should be changed for crossings located on county lines to reflect the county responsible for maintenance at that crossing, and that High Speed Rail (HSR) codes be included in the instructions for Item 12. FRA agrees, and has added words to the instructions that the State/County that is responsible for maintenance at the crossing shall determine the location of the crossing, or an agreement/decision must be made between the jurisdictions as to the location of the crossing. The instructions will also reflect that HSR codes will be supplied by FRA as specific corridors are identified and that this field will normally be maintained by FRA's data processing contractor. AAR commented that Items 35, 36, and 37 of Part I, which FRA will have posted on its Website under Inventory History which identify contacts, do not add any significant value to the inventory data. FRA disagrees and notes that only telephone numbers and not names are required by these data elements. However, consideration will be given to not displaying this information on the FRA Website. AAR suggested that Items 1A through 1D of Part II “Detailed Railroad Information” need not be included on the form. FRA has revised and simplified these data elements in light of this observation. AAR requested that Item 1E of Part II which inquires “whether typical number of daily train movements are actual or estimated” be deleted. FRA agrees and has deleted this data element. AAR remarked that Part II Item 2B “Typical Speed Range Over Crossing” should identify maximum table speed (mph). FRA disagrees and feels that this information is necessary to identify if there are slow movements over the crossing. This information also helps planners to determine if Constant Warning Time (CWT) for the warning devices is needed. AAR stated that the instructions for Part I Item 11 “Train Detection” should only be provided for crossings with active warning devices. FRA agrees and has made the default “None” in the instructions. AAR noted that Part II Item 14 “Whistle Bans” does not make sense since FRA's anticipated proposed rule implementing the Swift Rail Act of 1994 would prohibit whistle bans. FRA agrees and has changed the title of Item 14 from “Whistle Ban” to “Quiet Zone” (now Part I Item 16). AAR observed that Item 16 of Part II should be in Part IV “Highway Department Information.” FRA agrees with this categorization. FRA has moved this item to Part III “Traffic Control Information” (Item 5) and has also re-named it “Channelization Devices with Gates” for clarity. AAR suggested that Items 5 and 10 of Part III (“Physical Data”) should be more appropriately categorized as roadway instead of highway. FRA does not agree. While it is true that several states use “highway” as a term to identify specific classifications of roadways, FRA desires that terminology on the form should be consistent such as the usage of “highway-rail crossings.” This term is used to refer to all crossings whether they are on an actual highway, road, or street. AAR commented that the draft instructions should identify the appropriate authority. FRA agrees and the final instructions will have a table identifying the primary authority responsible for providing each data element and, if appropriate, the secondary authority as well. Lastly, AAR suggested the current method of forwarding changes to FRA increases administration duties for submitting parties and for FRA. In response, FRA notes that a facilitation process is already available which allows a railroad or States to use the “GX 32” program software to submit changes and updates.

A third set of comments was submitted by the Burlington Northern-Santa Fe Railway Company (BNSF). BNSF had a number of comments regarding the data elements of the form. He suggested that data items 12, 13, 16, 18, 19, and 24 of Part I “Location and Classification of All Crossings” be moved to Part III (which should contain items provided by the highway authority). In response, FRA has revised the form and also the instructions to more clearly identify which data elements are to be completed by the railroad and which elements are to be completed by the highway authority. BNSF suggested removing Part I Item 25B “Public Access” since he believed the answer to this item is always “no.” FRA disagrees and has retained this item in the form. This field was specifically requested by a Class I railroad and is designed to cover those situations where the general public would use the crossing and not be aware that it was a private crossing. BNSF remarked that it did not wish to provide the information requested regarding the “Railroad Contact” in Item 35 of Part I. Again, this data element does not request names of individuals but only telephone numbers and is retained in the form. BNSF remarked that Part II “Detailed Railroad Information” should contain only data items that apply to railroads. FRA agrees and has taken steps in the revised form to separate Part II into two parts by creating a fifth part for the warning device information. BNSF further remarked that Item 1 “Typical Number of Daily Train Movements” of Part II should be dropped since it has never been able to determine the train movements by day or night. FRA disagrees and believes that this information is useful, particularly in the DOT Accident Prediction Formulas. However, changes have been effected in the revised form to simplify the information to be provided. BNSF advocated that Part II Item 2B “Typical Speed Range Over Crossing” be eliminated since determining what is typical for each crossing is not possible and can change over time. FRA disagrees and has retained this data element. In thru territory, the normal typical speed over the crossing would be constant, most probably the timetable speed. BNSF recommended that Part II Item 6E “Hump Crossing Sign W 10-5” be moved to Part III since this is information that the highway is responsible for providing. FRA agrees. FRA has created a new Part for Items 6 through 16 titled “Traffic Control Device Information” and has specified in the instructions that Item 6E is the responsibility of the highway authority. BNSF suggested that the part for “Other Colored” in Part II Item 7A “Gates” be removed. FRA has changed this data element (now Part III Item 3A) so that it will just count the number of gates present at the crossing without distinction to the type or color. BNSF observed that the check box for “None” in Part II Item 11 “Train Detection” is not necessary and should be removed. The revised form retains this box since Item 11 provides a category “None” which would be checked or indicated if the crossing was not an active crossing. The default category would be “None” if no other box is checked. BNSF also advocated that Part II Item 14 “Whistle Ban” be removed from the inventory. As mentioned earlier, the revised form changes the title of Item14 from “Whistle Ban” to “Quiet Zone” (now Part I Item 16). BNSF commented that Part II Item 16 “Median Barriers with Gates” should be moved to Part III and be a part of the highway authority supplied data. Again, FRA notes that the highway authority will have the primary responsibility for supplying this data so it is retaining this data element. Like some other data elements, it is not difficult for railroads to observe that median barriers are present. Railroads would have secondary responsibility for submittal of this information. BNSF observed that most of the items in Part III “Physical Data” are data items known by the road authority and should be supplied by the road authority. In response, FRA has revised the form and instructions to clearly identify which data elements should be completed by the railroad and which data elements should be completed by the highway authority, and which can be completed by either. Lastly, regarding the typical number of daily train movements (Part II Item 1E), BNSF commented that it was not sure how indicating whether the typical number of daily train movements is an “actual” or “estimated” count will provide meaningful information to anyone. FRA agrees and Item 1E has been eliminated.

A fourth set of comments was submitted by the Virginia Department of Transportation (VDOT). VDOT noted that there is no place on the Crossing Inventory Form for independent cities. It wanted to know if there is an edit list of acceptable Counties/Cities in the FRA database. In response, FRA has provided an explanation in the Instruction Manual to ensure that Federal Information Processing Standards (FIPS) Codes are used in the Inventory File. FRA is evaluating placing the FIPS Codes on its Website. VDOT suggested that, regarding the instructions to Part I Item 7, the RRID No. (Item 8) box be used to enter the alpha component. In response, FRA notes that an alpha character can be entered in the “Milepost” field. However, because of data retrieval and printout anomalies, FRA strongly recommends that alpha characters be avoided. Usually avoiding the alpha character will not present a serious identification problem. VDOT suggested that the instructions to Item 3 of Part II be improved to clarify what are the acceptable types of “other” tracks and how they are defined. In response, the Instruction Manual supplied by FRA will provide examples of what to specify.

A fifth set of comments was submitted by unidentified individuals. One of these commenters requested an item for the “number of signal heads” be included in the form. FRA concurs that this is useful information and has added a data element for the “number of flashing light pairs” (now Part III item 3E). Another commenter suggested a change to both the Instructions and to Part II Item 6.C “Other Stop Signs.” This commenter stated that there should not be any other stop signs other than the Standard Highway Stop Sign. FRA agrees. It has deleted Item 6C and has specified in the instructions that non-standard stop signs should be reported as “Other Signs,” now Part III Item 2F. One commenter suggested that Part I Item 7 “Mile Post” should be one word. FRA agrees and has made the necessary change. Another commenter suggested that Part II Item 7A. “Gates” combine “red and white reflectorized “and “other colored” into one category. FRA concurs and Item 3A of Part III will just be a count of the number of gates present a the crossing without distinction to the type or color. There was also a suggestion that Part II Item 6A “Crossbucks” combine “reflectorized” and “non-reflectorized” into one category. FRA agrees and Part III Item 2A will just be a count of the number of Crossbucks present at the crossing without distinction to the type.

Another commenter requested that FRA create an additional Part on the form (there would be 5 Parts) and change Part II “Detailed Railroad Information” to “Highway Warning Device Information.” FRA agrees and has created a fifth Part (which becomes Part III “Traffic Control Device Information”). One commenter recommended moving Part II Item 10 “Is Commercial Power Available?” to Part III “Physical Data.” FRA concurs and has moved this item to Part III “Physical Data'(new Part IV). Two other form changes were requested by commenters. One was to change Part IV “Highway Department Information” (new Part V) to “Highway Information.” The other was to change Part III “Physical Data” to “Physical Characteristics.” FRA agrees and has made both changes. Several other suggestions were submitted. One concerned grouping Items 21, 22, 23, 24, and 25 together and inserting the subtitle “State Supplied Information” for this group. Another regarded changing the title of Part II from “Detailed Railroad Information” to “Detailed Information.” FRA has implemented these last two suggestions in the revised form. Also recommended by commenters was to change the title of Part I “Location and Classification of All Crossings” to “Location and Classification Information,” and to move “Whistle Ban” (Part II Item 14) to Part I and change the Item name to “Quiet Zone.” FRA agrees with both suggestions and has revised the form accordingly. FRA has also moved Part III Item 6 “Pavement Marking” and Item 7 “Are Advanced Warning Signs Present?” to the section “Traffic Control Device Information” in response to comments.

Annual Estimated Burden: 3,104 hours

Addressee: Send comments regarding this ICR to the Office of Information and Regulatory Affairs, Office of Management and Budget, 725 Seventh Street, NW, Washington, DC 20503; Attention: FRA Desk Officer.

Comments are invited on: Whether the proposed information collection is necessary for the proper performance of the functions of the Department, including whether the information will have practical utility; the accuracy of the Department's estimate of the burden of the proposed information collection; ways to enhance the quality, utility, and clarity of the information to be collected; and ways to minimize the burden of the collection of information on respondents, including the use of automated collection techniques or other forms of information technology.

A comment is best assured of having its full effect if OMB receives it within 30 days of publication of this notice in the Federal Register.

Authority: 44 U.S.C. 3501-3520.

Issued in Washington, D.C.
Margaret B. Reid,
Acting Director, Office of Information Technology and Support Systems, Federal Railroad Administration.

[FR Doc. 00-1506 Filed 1-21-00; 8:45 am]

BILLING CODE 4910-06-U